DEPARTMENT OF HEALTH AND HUMAN SERVICES

Health Resources and Services Administration

Notice of Single-Award Deviation From Competition Requirements for the Severe Combined Immunodeficiency (SCID) Newborn Screening Program at the Jeffrey Modell Foundation

AGENCY: Health Resources and Services Administration (HRSA), Department of Health and Human Services.

ACTION: Notice of award.

SUMMARY: HRSA announces the award of an extension in the amount of $2,000,000 for the Severe Combined Immunodeficiency (SCID) Newborn Screening program at the Jeffrey Modell Foundation (JMF). The extension will allow JMF, the cooperative agreement recipient, during the budget period of May 1, 2017 to April 30, 2018, to provide technical assistance and support to states for the implementation of population based newborn screening for SCID.

FOR FURTHER INFORMATION CONTACT: Jill F. Shuger, ScM, Division of Services for Children with Special Health Needs, MCHB, HRSA, 5600 Fishers Lane, Rockville, Maryland 20857, Phone: (301) 443-3247, Email: JShuger@hrsa.gov.

SUPPLEMENTARY INFORMATION:

Intended Recipient of the Award: Jeffrey Modell Foundation.

Amount of Non-Competitive Awards: $2,000,000.

Budget Period of Supplemental Funding: May 1, 2017 to April 30, 2018.

CFDA Number: 93.110.

Authority: Public Health Service Act, § 1109, as amended by the Newborn Screening Saves Lives Reauthorization Act of 2014 (Public Law 110-204) (42 U.S.C. 300b-8).

Justification: The Maternal and Child Health Bureau (MCHB) is proposing that JMF continue activities under the current cooperative agreement to ensure the implementation of newborn screening for SCID in all 50 states, particularly in the states that have yet to implement SCID screening (i.e., Alabama, Arizona, Indiana, Kansas, Louisiana, Nevada and North Carolina). Using its resources and centers, JMF will provide technical assistance in areas of funding, state government education, and linkage to expert care and patient access to a national network of specialized treatment centers. Further, JMF will continue to support states with implementation of SCID screening and follow up as well as the immediate treatment of infants identified with SCID. JMF will use the data collected from the states to educate clinical immunologists, neonatologists and other providers on effective screening for SCID. Additionally, JMF will continue to support education and awareness of newborn screening for SCID to families and health care providers and provide education to primary care providers and medically underserved populations.

Grantee/organization name | Grant No. | State | Fiscal year 2017 authorized funding level | Fiscal year 2017 estimated supplemental funding
Jeffrey Modell Foundation | UG5MC28325 | UT | $2,000,000 | $2,000,000

Dated: September 7, 2017.
George Sigounas,
Administrator.

[FR Doc. 2017-20116 Filed 9-20-17; 8:45 am]

BILLING CODE 4165-15-P